DEPARTMENT OF ENERGY

Federal Energy Regulatory Commission

[Docket No. CP04-385-000]

Transcontinental Gas Pipeline Corporation; Crosstex CCNG Transmission, Ltd.; Notice of Application

August 5, 2004.

Take notice that on July 28, 2004, Transcontinental Gas Pipeline Corporation (Transco), P.O. Box 1396, Houston, Texas 77251, and Crosstex CCNG Transmission, Ltd. (Crosstex), 2501 Cedar Springs, Suite 600, Dallas, Texas 75201, filed, in Docket No. CP04-385-000, an application pursuant to section 7(b) of the Natural Gas Act (NGA) and Part 157 of the Commission regulations, for authorization to abandon, by sale to Crosstex, certain of Transco's natural gas pipeline facilities (South Texas Pipeline Facilities), located in South Texas, and for authorization to abandon Gulf South's related transportation services. Transco and Crosstex also request that the Commission find that the South Texas Pipeline Facilities, once abandoned and operated by Crosstex as an intrastate pipeline, will be exempt from the Commission's regulation, all as more fully set forth in the application which is on file with the Commission and open to public inspection. This filing is available for review at the Commission or may be viewed on the Commission's Web site at http://www.ferc.gov using the “e-Library” link. Enter the docket number excluding the last three digits in the docket number field to access the document. For assistance, please contact FERC Online Support at FERCOnlineSupport@ferc.gov or toll-free at (866) 208-3676, or for TTY, contact (202) 502-8659.

Transco's contact person for this proceeding is Scott C. Turkington, Director, Rates & Regulatory, (713) 215-3391, P.O. Box 1396, Houston, Texas 77251. Crosstex's contact person for this proceeding is Leslie J. Wylie, Vice President, Legal and Administration, (214) 721-9321, 2501 Cedar Springs Road, Suite 600, Dallas, Texas 75201.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests, comments and interventions may be filed electronically via the Internet in lieu of paper; see, 18 CFR 385.2001(a)(1)(iii) and the instructions on the Commission's web site under the “e-Filing” link. The Commission strongly encourages electronic filings.

Comment Date: August 26, 2004.

Magalie R. Salas,
Secretary.

[FR Doc. E4-1797 Filed 8-11-04; 8:45 am]

BILLING CODE 6717-01-P